FEDERAL COMMUNICATIONS COMMISSION

[Report No. 2566]

Petition for Reconsideration of Action in Rulemaking Proceedings

July 25, 2002.

Petition for Reconsideration has been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to this petition must be filed by August 19, 2002. See Section 1.4(b)(1) of the Commission's rules (47 CFR 1.4(b)(1)). Replies to an opposition must be filed within 10 days after the time for filing oppositions has expired.

Subject: Amendment of the FM Table of Allotments (MM Docket No. 01-131, MM Docket No. 01-133).

Number of Petitions Filed: 1.

Marlene H. Dortch,
Secretary.

[FR Doc. 02-19492 Filed 8-1-02; 8:45 am]

BILLING CODE 6712-01-M